NUCLEAR REGULATORY COMMISSION

Advisory Committee on Nuclear Waste; Notice of Meeting

The Advisory Committee on Nuclear Waste (ACNW) will hold its 151st meeting on June 22-24, 2004, Room T-2B3, 11545 Rockville Pike, Rockville, Maryland. The Working Group Session on June 22-23 will also be videoconferenced with the Department of Energy offices in Summerlin, Nevada. Contact Carol Hanlon (DOE) for details about the location of that videoconference facility. She can be reached at (702) 794-1324 or via e-mail at Carol_Hanlon@notes.ymp.gov.

The schedule for this meeting is as follows:

Tuesday, June 22, 2004

10 a.m.-10:10 a.m.: Opening Statement (Open)—The Chairman will open the meeting and turn it over to the Working Group Chairman.

Working Group: Biosphere Transport of Radionuclides at the Proposed Yucca Mountain High-Level Waste Repository (Open).

10:10 a.m.-11:10 a.m.: Keynote Presentation: “A New Approach to Modeling Retardation by Sorption at the Field Scale” (Open)—The Committee will hear a presentation by and hold discussions with a representative of USGS regarding radionuclide transport.

11:10 a.m.-11:45 a.m.: Regulatory Overview of Radionuclide Transport Issues (Open)—The Committee will hear a presentation by and hold discussions with representative of the NRC's Office of Nuclear Material and Safety regarding the regulatory overview of radionuclide transport issues.

1 p.m.-1:45 p.m.: Overview of DOE's Assessment of the Model of Radionuclide Transport (Open)—The Committee will hear presentations by and hold discussions with representatives of DOE regarding DOE's assessment of the model of radionuclide transport.

1:45 p.m.-3:15 p.m.: CNWRA Modeling of Site-Scale Saturated Zone Flow at Yucca Mountain (Open)—The Committee will hear a presentation by a CNWRA representative regarding the modeling of site scale saturated zone flow at Yucca Mountain.

3:30 p.m.-4:15 p.m.: Characteristics of Saturated Zone Transport at Yucca Mountain (Open)—The Committee will hear a presentation by and hold discussions with representatives of DOE regarding the characteristics of saturated zone transport at Yucca Mountain.

4:15 p.m.-5:15 p.m.: Public Comments (Open)—The Committee will hear comments from the public.

Wednesday, June 23, 2004

Working Group: Geosphere Transport of Radionuclides at the Proposed Yucca Mountain High-Level Waste Repository—Continued (Open).

9 a.m.-9:05 a.m.: Opening Statement (Open)—The Working Group Chairman will make opening remarks regarding the conduct of today's sessions.

9:05 a.m.-10:05 a.m.: NRC's Performance Assessment and Risk Perspective (Open)—The Committee will hear presentations by and hold discussions with the Nuclear Material Safety and Safeguards representative regarding NRC's performance assessment and risk perspective.

10:20 a.m.-12:45 p.m.: Presentations by Representatives of the State of Nevada, Nye County, and the Electric Power Research Institute. (Open)—The Committee will hear presentations by stakeholder organizations.

2 p.m.-3 p.m.: Working Group Roundtable Panel Discussion (Open).

3 p.m.-4 p.m.: Panel and Committee Summary Discussion (Open).

4 p.m.-4:30 p.m.: Public Comments (Open).

4:30 p.m.-4:35 p.m.: Closing Comments by the Working Group Chairman (Open).

4:35 p.m.-5:15 p.m.: Discussion of ACNW Letter Report (Open)—The Committee will outline the principal points to be included in a potential letter report resulting from these Working Group sessions.

Thursday, June 24, 2004

8:30 a.m.-8:35 a.m.: Opening Remarks by the ACNW Chairman (Open)—The Chairman will make opening remarks regarding the conduct of today's sessions.

8:35 a.m.-10 a.m.: DOE Response to NRC Independent Evaluation of DOE Documents Supporting the Yucca Mountain License Application (YMLA) (Open)—The Committee will hear presentations by and hold discussions with representatives of DOE regarding their response to the NRC's April 10, 2004 letter to M. Chu, DOE, regarding that evaluation by NRC of the documents intended to support the YMLA.

10:15 a.m.-12:30 p.m.: Preparation of ACNW Reports (Open)—The Committee will discuss potential ACNW reports on matters discussed during this meeting. It may also discuss possible reports on matters discussed during prior meetings.

1:30 p.m.-2:45 p.m.: Preparation for Meeting with the NRC Commissioners (Open)—The Committee will finalize its viewgraphs for the proposed July 21, 2004 meeting with the NRC Commissioners.

2:45 p.m.-3 p.m.: Miscellaneous (Open)—The Committee will discuss matters related to the conduct of Committee activities and matters and specific issues that were not completed during previous meetings, as time and availability of information permit.

Procedures for the conduct of and participation in ACNW meetings were published in the Federal Register on October 16, 2003 (68 FR 59643). In accordance with these procedures, oral or written statements may be presented by members of the public. Electronic recordings will be permitted only during those portions of the meeting that are open to the public. Persons desiring to make oral statements should notify Mr. Howard J. Larson, Special Assistant (Telephone 301-415-6805), between 7:30 a.m. and 4 p.m. e.t., as far in advance as practicable so that appropriate arrangements can be made to schedule the necessary time during the meeting for such statements. Use of still, motion picture, and television cameras during this meeting will be limited to selected portions of the meeting as determined by the ACNW Chairman. Information regarding the time to be set aside for taking pictures may be obtained by contacting the ACNW office prior to the meeting. In view of the possibility that the schedule for ACNW meetings may be adjusted by the Chairman as necessary to facilitate the conduct of the meeting, persons planning to attend should notify Mr. Howard J. Larson as to their particular needs.

Further information regarding topics to be discussed, whether the meeting has been canceled or rescheduled, the Chairman's ruling on requests for the opportunity to present oral statements and the time allotted, therefore can be obtained by contacting Mr. Howard J. Larson.

ACNW meeting agenda, meeting transcripts, and letter reports are available through the NRC Public Document Room at pdr@nrc.gov, or by calling the PDR at 1-800-397-4209, or from the Publicly Available Records System (PARS) component of NRC's document system (ADAMS) which is accessible from the NRC Web site at http://www.nrc.gov/reading-rm/adams.html or http://www.nrc.gov/reading-rm/doc-collections/ (ACRS & ACNW Mtg schedules/agendas).

Video Teleconferencing service is available for observing open sessions of ACNW meetings. Those wishing to use this service for observing ACNW meetings should contact Mr. Theron Brown, ACNW Audiovisual Technician (301-415-8066), between 7:30 a.m. and 3:45 p.m. e.t., at least 10 days before the meeting to ensure the availability of this service.

Individuals or organizations requesting this service will be responsible for telephone line charges and for providing the equipment and facilities that they use to establish the video teleconferencing link. The availability of video teleconferencing services is not guaranteed.

Dated: June 8, 2004.
Andrew L. Bates,
Advisory Committee Management Officer.

[FR Doc. 04-13365 Filed 6-14-04; 8:45 am]

BILLING CODE 7590-01-P